FEDERAL COMMUNICATIONS COMMISSION

[FR ID: 124776]

Privacy Act of 1974; System of Records

AGENCY: Federal Communications Commission.

ACTION: Rescindment of a system of records notice.

SUMMARY: The FCC's Public Safety and Homeland Security Bureau (PSHSB) Contacts Database stores the personally identifiable information of individuals who voluntarily submit their contact information to the PSHSB.

DATES: The rescindment will become effective 30 days after publication.

ADDRESSES: Comments can be submitted to Privacy@fcc.gov.

FOR FURTHER INFORMATION CONTACT: For further information please contact Brendan McTaggart, (202) 418-1738 or Privacy@fcc.gov.

SUPPLEMENTARY INFORMATION: The Privacy Act provides that an agency may collect or maintain in its records only information about individuals that is relevant and necessary to accomplish a purpose that is required by a statute or executive order. The FCC has determined that this system no longer meets this standard, because the only type of personally identifiable information currently being collected and maintained in this system is business contact information and a new system—FCC-2—was developed to maintain this type of business contact information. Therefore, the FCC proposes to rescind FCC/PSHSB-2 and expunge or transfer the records it contains to FCC-2 in accordance with the requirements in the SORN and the applicable records retention or disposition schedule approved by the National Archives and Records Administration.

SYSTEM NAME AND NUMBER:

FCC/PSHSB-2, PSHSB Contact Database.

HISTORY:

77 FR 1487 (January 10, 2012).

Marlene Dortch,
Secretary.

[FR Doc. 2023-02203 Filed 2-1-23; 8:45 am]

BILLING CODE 6712-01-P